DEPARTMENT OF AGRICULTURE

Agricultural Research Service

7 CFR Part 505

Modification of Interlibrary Loan Fee Schedule; Correction

AGENCY: Agricultural Research Service, USDA.

ACTION: Proposed rule; correction.

SUMMARY: The proposed rule published in the Federal Register on September 16, 2011 (76 FR 57681) announced Agricultural Research Service intent to seek comments on renewing the National Agricultural Library's regulation to increase the interlibrary loan fees. This document corrects the RIN number.

FOR FURTHER INFORMATION CONTACT: Kay Derr, 301-504-5879.

Correction

In the Federal Register of September 16, 2011, in FR Doc. 2011-23723, on pages 57681-57682 in the heading section, correct the RIN number to read as follows: RIN 0518-AA04

Yvette Anderson,
Federal Register Liaison Officer for Agricultural Research Service.

[FR Doc. 2011-24367 Filed 9-28-11; 8:45 am]

BILLING CODE P